Title 3—

The President

Proclamation 7914 of July 21, 2005

Parents' Day, 2005

By the President of the United States of America

A Proclamation

Parents are role models for their children. With patience, sacrifice, and love, they teach their children life lessons and prepare them for the future. On Parents' Day, we express our gratitude for the hard work of parents throughout America and reaffirm our commitment to promoting a culture of responsible parenthood.

Mothers and fathers love their children unconditionally and make daily sacrifices to provide for them. Parents create a safe, nurturing environment in which their children can grow and learn. By instructing their children to make right choices, parents instill lifelong values and prepare their children for the challenges and opportunities ahead. Parents experience the great joy of watching their sons and daughters mature into responsible adults and good citizens.

On Parents' Day, we recognize the boundless love and generosity of all parents, including the foster and adoptive parents who demonstrate the compassionate spirit of America. We honor parents for their dedication to providing our Nation's children with the love and support they need.

NOW, THEREFORE, I, GEORGE W. BUSH, President of the United States of America, by virtue of the authority vested in me by the Constitution and laws of the United States and consistent with Public Law 103-362, as amended, do hereby proclaim Sunday, July 24, 2005, as Parents' Day. I encourage all Americans to express love, respect, and appreciation to parents across our Nation. I also call upon citizens to observe this day with appropriate programs, ceremonies, and activities.

IN WITNESS WHEREOF, I have hereunto set my hand this twenty-first day of July, in the year of our Lord two thousand five, and of the Independence of the United States of America the two hundred and thirtieth.

B

[FR Doc. 05-14918

Filed 7-25-05; 9:09 am]

Billing code 3195-01-P